DEPARTMENT OF COMMERCE

National Oceanic and Atmospheric Administration

[I.D. 092500A]

Endangered Species; Permits

AGENCY: National Marine Fisheries Service (NMFS), National Oceanic and Atmospheric Administration (NOAA), Commerce.

ACTION: Receipt of an application for a scientific research permit (1228) and for modifications to scientific research permits (1025, 1059); Issuance of a scientific research/enhancement permit (1129), and a scientific research permit (1234).

SUMMARY: Notice is hereby given of the following actions regarding permits for takes of endangered or threatened species for the purposes of scientific research and/or enhancement: NMFS has received a permit application from Peter Weber of Berkeley, CA (WEBER) (1228); NMFS has received applications for modifications to existing permits from the California Department of Fish and Game, Native Anadromous Fish and Watershed Branch, Sacramento, CA (CDFG)(1025)and Carl Page of Cotati, CA (PAGE)(1059); NMFS has issued scientific research permit 1234 to Mr. Joseph Hightower, of North Carolina Cooperative Fish and Wildlife Research Unit (NCCFWR) (1234); NMFS has issued a scientific research/enhancement permit to the Washington Department of Fish and Wildlife at Olympia, WA (WDFW) (1129).

DATES: Comments or requests for a public hearing on any of the new applications or modification requests must be received at the appropriate address or fax number no later than 5pm eastern standard time on October 30, 2000.

ADDRESSES: Written comments on any of the new applications or modification requests should be sent to the appropriate office as indicated here. Comments may also be sent via fax to the number indicated for the application or modification request. Comments will not be accepted if submitted via e-mail or the Internet. The applications and related documents are available for review in the indicated office, by appointment:

Protected Resources Division, NMFS, 777 Sonoma Avenue, Room 325, Santa Rosa, CA 95404-6528 (707 575-6053).

Written comments or requests for a public hearing should be submitted to the Protected Resources Division in Santa Rosa, CA.

FOR FURTHER INFORMATION CONTACT: For permit 1129: Robert Koch, Portland, OR (503-230-5424, fax: 503-230-5435, e-mail: robert.koch@noaa.gov).

For permit 1234: Terri Jordan, Silver Spring, MD, (301-713-1401 x148, fax: 301-713-0376, email: Terri.Jordan@noaa.gov).

For permits 1025, 1059, and 1228: Permits Coordinator, Protected Resources Division, Santa Rosa, CA (Phone: 707-575-6053).

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Sockeye salmon (Oncorhynchus nerka): endangered Snake River (SnR);

Chinook salmon (O. tshawytscha): threatened SnR spring/summer, threatened SnR fall.

Steelhead (O. mykiss): threatened SnR.

Endangered Sacramento River Winter-run chinook salmon (Oncorhynchus tshawytscha);

Endangered, Southern CA Coast (SoCC) steelhead (Oncorhynchus mykiss); and

Shortnose sturgeon (Acipenser brevirostrum).

New Application Received

WEBER (1228) requests a research permit to obtain up to 50 incidental mortalities of juvenile endangered Sacramento River Winter-run chinook salmon (Oncorhynchus tshawytscha) per year for 5 years from NMFS-permitted researchers. The goal of WEBER’S study is to identify geochemical markers that can be used to determine the origin and outmigration history of juvenile chinook salmon in the Sacramento-San Joaquin system. If naturally occurring markers are identified, they could benefit winter-run chinook salmon by providing additional information on their life history, threats to their survival, and limiting factors in their recovery. WEBER proposes to analyze otoliths using various methods of spectrometry.

Modifications Requests Received

CDFG requests modification 4 to permit 1025 for authorization to increase capture/handle take of juvenile, endangered Sacramento River Winter-run chinook salmon associated with extant fish population studies in the Sacramento River. ESA-listed salmonids are observed or captured, anesthetized, handled for measurement, allowed to recover from anesthetic and then released. Modification 4 would increase the authorized annual capture/handle take of juvenile winter-run chinook salmon to 30,000. An increase in indirect mortalities to 750 is also requested. Modification 4 is requested to be valid for the duration of permit (1025), which expires on June 30, 2001.

PAGE requests modification 1 to permit 1059 for takes of adult and juvenile, endangered, Southern California Coast (SoCC) steelhead (Oncorhynchus mykiss) associated with presence/absence surveys, population studies, spawner surveys - including the handling and sampling of carcasses, and habitat surveys. Juvenile and adult SoCC steelhead will be trapped, measured, sampled for tissues, and released. PAGE is currently authorized to take SoCC steelhead associated with fish population and habitat studies in coastal drainages throughout California. Modification 1 of permit 1059 would decrease the observe/harass and capture/handle take of juvenile SoCC steelhead and increase the capture/handle take of adult SoCC steelhead authorized in permit 1059. The modification would also include the addition of several new study sites in coastal streams for the purpose of collecting data on the distribution and abundance of steelhead within the SoCC ESU. Modification 1 is requested to be valid for the duration of permit (1059), which expires on June 30, 2003.

Permits Issued

Notice was published on March 24, 1998 (63 FR 14069), and March 9, 1999 (64 FR 11444), that WDFW applied for a scientific research/enhancement permit. Permit 1129 was issued to WDFW on July 25, 2000. Permit 1129 authorizes WDFW annual takes of adult and juvenile, threatened, naturally produced and artificially propagated, SnR spring/summer chinook salmon associated with a hatchery supplementation program and a captive broodstock programs are for the Tucannon River spring chinook salmon population. The objectives of WDFW's supplementation and captive broodstock programs are to: (1) enhance the number of potential spawners in the natural environment; (2) preserve the genetic integrity of the stock to prevent extinction; and (3) stop the decline in run sizes and eventually, to rebuild the natural population over time. For the supplementation program, WDFW will retain a percentage of the adult salmon that return to the Tucannon River each year for broodstock and release all of the adult salmon not retained for broodstock above the adult trap to spawn naturally. ESA-listed adult salmon retained for broodstock will be transported to WDFW’s Tucannon River Fish Hatchery and/or Lyons Ferry Fish Hatchery and spawned. The resulting progeny will be reared in the hatcheries and released as smolts when ready to outmigrate to the ocean. For the captive broodstock program, ESA-listed juvenile fish will be retained in the hatcheries, reared to adulthood, and spawned in the hatchery environment as a means of protecting the genetic integrity of the run. Permit 1129 also allows a limited use of remote site incubators to reseed the uppermost reaches of the Tucannon River with spring chinook salmon eggs and fry to aid in the long-term recovery and rebuilding of the run. Annual incidental takes of endangered SnR sockeye salmon, threatened SnR fall chinook salmon, and threatened SnR steelhead associated with WDFW’s hatchery operations and juvenile fish releases from WDFW’s hatchery supplementation program are also authorized. Permit 1129 expires on December 31, 2003.

Notice was published on February 16, 2000 (65 FR 7854) that Mr. Joseph Hightower, of NCCFWR applied for a scientific research permit (1234). The applicant has requested a 5-month permit to take up to 10 shortnose sturgeon in the Roanoke River, North Carolina. The take is needed to answer questions regarding impacts of the Roanoke and Gaston dams on anadromous fishes are required by the Federal Energy Regulatory Commission relicensing process. No shortnose sturgeon have been recorded as being taken from the Roanoke River; however, sampling effort has been low. The North Caroline Department of Marine Fisheries captured one shortnose sturgeon in Bachelor's Bay (in western Albemarle Sound, near the mouth of the Roanoke River) in April 1998. The Final Recovery Plan for shortnose sturgeon mandates that surveys be conducted to identify and determine the status of extant populations of shortnose sturgeon. Permit 1234 was issued on September 19, 2000, authorizing take of listed species. Permit 1234 expires April 30, 2001.

Dated: September 25, 2000.
Wanda L. Cain,
Chief, Endangered Species Division, Office of Protected Resources, National Marine Fisheries Service.

[FR Doc. 00-25042 Filed 9-28-00; 8:45 am]

BILLING CODE 3510-22-S